DEPARTMENT OF JUSTICE

Antitrust Division

Notice Pursuant to the National Cooperative Research and Production Act of 1993—International Electronics Manufacturing Initiative

Notice is hereby given that, on April 23, 2015, pursuant to Section 6(a) of the National Cooperative Research and Production Act of 1993, 15 U.S.C. 4301 et seq. (“the Act”), International Electronics Manufacturing Initiative (“iNEMI”) has filed written notifications simultaneously with the Attorney General and the Federal Trade Commission disclosing changes in its membership. The notifications were filed for the purpose of extending the Act's provisions limiting the recovery of antitrust plaintiffs to actual damages under specified circumstances. Specifically, Advanced Institute of Sciences, Daejon, REPUBLIC OF KOREA; Bel Power Solutions Inc., Jersey City, NJ; Keysight Technologies, Colorado Springs, CO; US Connect, Hickory, NC; i3, Endicott, NY; Foxconn Interconnect, Brea, CA; Isola, Chandler, AZ; Oak Mitsui, Hoosick Falls, NY; Sagem, Paris, FRANCE; and Unitec Semiconductores, Rio de Janerio, BRAZIL, have been added as parties to this venture.

Also, Amkor, Chandler, AZ; Astec America, Inc., Milpitas, CA; AT&S Austria Technologie & Systemtechnik AG, Leoben, AUSTRIA; Boston Scientific, Canton, MA; Agilent Technologies, Colorado Springs, CO; Doosan Corporation Electro-Materials BG, Seoul, REPUBLIC OF KOREA; DSM Engineering Plastics, Sittard, THE NETHERLANDS; Netherlands Elec & Eltek Multilayer PCB Limited, Kowloon, HONG KONG-CHINA; Sanmina-SCI, Plexus, Neenah, WI; Asset InterTech, Richardson, TX; Asset InterTech, Richardson, TX; Elite Material, Tao-yuan Shien, TAIWAN; IEC, Newark, NY; IHS Parts Management, Englewood, CO; Industrial Technology Research Institute (ITRI), Chutung, Hsinchu, TAIWAN; Endicott Intercott Interconnect Technolgies (EIT), Inc., Endicott, NY; Namics Corporation, Niigata-City, JAPAN; Samsung Electro-Mechanics Co., Ltd., Gyeonnggi-do, REPUBLIC OF KOREA; Rochester Institute of Technology (RIT), Rochester, NY; Valtronics, Les Charbonnieres, SWITZERLAND; and NGK Spark Plug Co., Ltd., Komaki-city, JAPAN, have withdrawn as parties to this venture.

In addition, the following members have changed their names: Delphi Electronics to Delphi Automotive Systems LLC, Kokomo, IN; OIDA to OSA, Washington, DC; and Mycronic Mydata to Micronic AB, Nytorpsvalen, SWEDEN.

No other changes have been made in either the membership or planned activity of the group research project. Membership in this group research project remains open, and iNEMI intends to file additional written notifications disclosing all changes in membership.

On June 6, 1996, iNEMI filed its original notification pursuant to Section 6(a) of the Act. The Department of Justice published a notice in the Federal Register pursuant to Section 6(b) of the Act on June 28, 1996 (61 FR 33774).

The last notification was filed with the Department on June 13, 2013. A notice was published in the Federal Register pursuant to Section 6(b) of the Act on July 18, 2013 (78 FR 42976).

Patricia A. Brink,
Director of Civil Enforcement, Antitrust Division.

[FR Doc. 2015-12675 Filed 5-26-15; 8:45 am]

BILLING CODE 4410-11-P